DEPARTMENT OF TRANSPORTATION

Federal Transit Administration

Guidelines for Preparation of Environmental Assessments: Notice of Withdrawal of Circular

AGENCY: Federal Transit Administration (FTA), DOT.

ACTION: Notice of Withdrawal of Circular.

SUMMARY: The Federal Transit Administration (FTA) is providing notice that it is withdrawing circular C5620.1, “Guidelines for Preparing Environmental Assessments.” The circular, which was issued in 1979, is outdated and should no longer be relied upon for guidance or cited in documents prepared for federally funded transit projects. FTA plans to develop new guidance at some point in the future.

DATES: The effective date of the withdrawal of the circular is January 21, 2009.

FOR FURTHER INFORMATION CONTACT: Carl Bausch, Office of Planning and Environment, Federal Transit Administration, 1200 New Jersey Ave SE., East Building, Washington, DC 20590, phone: (202) 366-1626; or Christopher S. Van Wyk, Office of Chief Counsel, same address, phone: (202) 366-1733.

SUPPLEMENTARY INFORMATION: By this notice, FTA is withdrawing circular C5620.1, “Guidelines for Preparing Environmental Assessments.” The circular was intended to provide guidance on the preparation of environmental assessments pursuant to the National Environmental Policy Act of 1969 (NEPA). Since the time of the circular's issuance in 1979, there have been numerous substantive legal decisions and changes in applicable law that significantly affect the way in which environmental assessments are prepared pursuant to NEPA. These changes, including a major revision of FTA's regulations for implementing NEPA at 23 CFR Part 771 issued in 1987, have rendered the circular too inaccurate and deficient to continue to provide guidance on the preparation of environmental assessments pursuant to NEPA. Thus, FTA is providing this notice that the circular is withdrawn, should no longer be used as guidance, and should no longer be cited in documents prepared for federally funded transit projects.

The circular will be moved to the “archive” section of its public Web site on the date of publication of this notice. FTA plans to develop new guidance at some point in the future.

Issued on: January 12, 2009.
Sherry E. Little,
Acting Administrator.

[FR Doc. E9-1013 Filed 1-16-09; 8:45 am]

BILLING CODE 4910-57-P